DEPARTMENT OF HEALTH AND HUMAN SERVICES

Centers for Disease Control and Prevention

Disease, Disability, and Injury Prevention and Control Special Emphasis Panel (SEP): Health Protection Research Initiative Mentored Research Scientist Development Award—K01—Panel 1, Request for Applications (RFA) CD-04-001

In accordance with section 10(a)(2) of the Federal Advisory Committee Act (Pub. L. 92-463), the Centers for Disease Control and Prevention (CDC) announces the following meeting:

Name: Disease, Disability, and Injury Prevention and Control Special Emphasis Panel (SEP): Health Protection Research Initiative Mentored Research Scientist Development Award—K01—Panel 1, Request for Applications (RFA) CD-04-001.

Times and Dates: 8 a.m.-8:30 a.m., August 9, 2004(Open). 8:30 a.m.-5 p.m., August 9, 2004(Closed). 8 a.m.-5 p.m., August 10, 2004(Closed).

Place: Westin Peachtree Plaza Hotel, 210 Peachtree Street, NW, Atlanta, GA 30303, Telephone (404) 659-1400.

Status: Portions of the meeting will be closed to the public in accordance with provisions set forth in section 552b(c)(4) and (6), Title 5 U.S.C., and the Determination of the Director, Management Analysis and Services Office, CDC, pursuant to Public Law 92-463.

Matters to be Discussed: The meeting will include the review, discussion, and evaluation of applications received in response to: Health Protection Research Initiative Mentored Research Scientist Development Award—K01—Panel 1, Request for Applications (RFA) CD-04-001.

For Further Information Contact: Elizabeth Skillen, PhD., Science Review Administrator, Public Health Practice program Office, CDC, 4770 Buford Highway, MS-K38, Atlanta, GA 30341, 770-488-2592.

The Director, Management Analysis and Services Office has been delegated the authority to sign Federal Register notices pertaining to announcements of meetings and other committee management activities, for both CDC and the Agency for Toxic Substances and Disease Registry.

Dated: July 15, 2004.
Joseph E. Salter,
Acting Director, Management Analysis and Services Office, Centers for Disease Control and Prevention (CDC).

[FR Doc. 04-16666 Filed 7-21-04; 8:45 am]

BILLING CODE 4163-18-P